FEDERAL COMMUNICATIONS COMMISSION

Notice of Public Information Collection(s) Being Reviewed by the Federal Communications Commission, Comments Requested

August 23, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 30, 2000. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0934.

Title: Application for Equipment Authorization—2.960, 2.962, 68.160 and 68.162 Form FCC TCB 731.

Form No.: FCC TCB 731.

Type of Review: Extension of currently approved collection.

Respondents: Business or other for profit.

Number of Respondents: 1,600.

Estimated Time Per Response: 4 hours.

Total Annual Burden: 6,400 hours.

Total Annual Cost: $7,000 per respondent.

Needs and Uses: Commission rules require approval prior to marketing of equipment regulated under certain Part 15 and Part 18 rule sections, based on showing of compliance with technical standards established in the Rules for each device operated under the applicable Rule part. Rules governing certain equipment operating the licensed service also require equipment authorization as established in the procedural Rules in Part 2 and Part 68. The Commission adopted new rules to streamline its equipment authorization program by allowing Telecommunications Certification Bodies to authorize equipment in a Report and Order, adopted December 1998, Gen. Doc. 98-68. Such a showing of compliance aids in controlling potential interference to radio communications, and the data gathered, as is necessary may be used for investigating complaints of harmful interference. Collection of this information is approved under OMB#3060-0057. Commission Rules established in Docket 98-68 established a framework for allowing private sector approval of equipment that is currently approved as noted above. In addition, the rule changes established guidelines for implementation of Mutual Recognition Agreements and Arrangements with foreign trade partners. To allow for private sector and foreign approval of equipment for marketing, the Commission made provisions to evaluate the recommendations of an accrediting body in a given country as to the competency of a Telecommunications Certification Body (TCB) to approve equipment for marketing. Once approved by the accrediting body, and “Designated” by the Commission, these TCB's may accept Form 731 filings (OMB 3060-0057) from the public and evaluate the compliance of the equipment with the Commission's Rules and technical standards. If the TCB determines that the equipment complies and should therefore receive a grant, the TCB is required to electronically submit the Form 731 information, and the information required for grant, to the Commission via the Internet.

OMB Number: 3060-0213.

Title: Section 73.3525 Agreements for removing application conflicts.

Form Number: None.

Type of Review: Extension of currently approved collection.

Respondents: Business or other for-profit.

Number of Respondents: 38.

Estimated time per response: 0.25-9 hours.

Frequency of response: On occasion.

Total annual burden: 39 hours.

Total annual cost: $61,353.

Needs and Uses: Section 73.3525 requires applicants for a construction permit for a broadcast station to obtain approval from the FCC to withdraw, dismiss or amend its application when that application is in conflict with another application pending before the FCC. This request for approval to withdraw, dismiss or amend an application should contain a copy of the agreement and an affidavit of each party to the agreement.

The data is used by FCC staff to assure that the agreement is in compliance with its rules and regulations and Section 311 of the Communications Act of 1934, as amended.

In the event that the proposed withdrawal of a conflicting application would unduly impede achievement of a fair, efficient and equitable distribution of radio service, the FCC must issue an order providing further opportunity to apply for the facilities specified in the application(s) withdrawn. Upon release of this order, Section 73.3525(b) requires that the party proposing withdrawal of its application give notice in a daily newspaper of general circulation published in the community in which the proposed station would have been located. This notice must be published twice a week for two consecutive weeks within the three-week period immediately following release of the FCC's order. Additionally, within 7 days of the last of publication of the notice, the applicant proposing to withdraw shall file with the FCC a statement giving the dates on which the notice was published, the text of the notice, and the name and location of the newspaper in which the notice was published. The newspaper publication gives interested parties an opportunity to apply for the facilities specified in the withdrawn application(s).

Federal Communications Commission.
William F. Caton,
Deputy Secretary.

[FR Doc. 00-22241 Filed 8-30-00; 8:45 am]

BILLING CODE 6712-01-U